DEPARTMENT OF LABOR

Employment and Training Administration

[TA-W-62,724]

Keola Precision Technologies Fremont, CA; Notice of Termination of Investigation

Pursuant to Section 221 of the Trade Act of 1974, as amended, an investigation was initiated on January 23, 2008, in response to a worker petition filed the One Stop Career Center on behalf of workers at Keola Precision Technologies, Fremont, California.

The petitioner has requested that the petition be withdrawn. Consequently, the investigation has been terminated.

Signed at Washington, DC, this 21st day of February, 2008.
Richard Church,
Certifying Officer, Division of Trade Adjustment Assistance.

[FR Doc. E8-3797 Filed 2-28-08; 8:45 am]

BILLING CODE 4510-FN-P